DEPARTMENT OF TRANSPORTATION

National Highway Traffic Safety Administration

[U.S. DOT Docket No. NHTSA-2009-0096]

Reports, Forms, and Recordkeeping Requirements: Agency Information Collection Activity Under OMB Review

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections. This document describes one collection of information for which NHTSA intends to seek OMB approval.

DATES: Comments must be received on or before July 13, 2009.

ADDRESSES: Refer to the docket notice number cited at the beginning of this notice and send your comments by any of the following methods:

Federal eRulemaking Portal: Go to http://www.regulations.gov. Follow the instructions for submitting comments.

Fax: 202-493-2251.

Mail: U.S. Department of Transportation, Docket Operations, M- 30, West Building Ground Floor, Room W12-140, 1200 New Jersey Ave., SE., Washington, DC 20590.

Hand Delivery: U.S. Department of Transportation, Docket Operations, M- 30, West Building Ground Floor, Room W12-140, 1200 New Jersey Ave., SE., Washington, DC 20590, between 9 a.m. and 5 p.m., Monday through Friday, except Federal holidays.

FOR FURTHER INFORMATION CONTACT: Charlene Doyle, Contracting Officer's Technical Representative, Office of Regulatory Analysis and Evaluation, National Highway Traffic Safety Administration, 1200 New Jersey Ave., SE., NVS-431, Washington, DC 20590. Ms. Doyle's phone number is 202-366-1276 and her e-mail address is charlene.doyle@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following: (i) Whether the proposed collection of information is necessary for the proper performance of the functions of the agency, including whether the information will have practical utility; (ii) The accuracy of the agency's estimate of the burden of the proposed collection of information, including the validity of the methodology and assumptions used; (iii) How to enhance the quality, utility, and clarity of the information to be collected; and (iv) How to minimize the burden of the collection of information on those who are to respond, including the use of appropriate automated, electronic, mechanical, or other technological collection techniques or other forms of information technology, e.g., permitting electronic submissions of responses. In compliance with these requirements, NHTSA asks public comment on the following proposed collection of information:

Title: Tire Pressure Monitoring System—Special Study.

Type of Request: New information collection requirement.

OMB Clearance Number: None.

Form Number: This collection of information uses no standard forms.

Required Expiration Date of Approval: Three years from the date of approval by OMB (i.e., estimated date of September 2012).

Abstract: Improperly inflated tires pose a safety risk, increasing the chance of skidding, hydroplaning, longer stopping distances, and crashes due to flat tires and blowouts. Congress passed the Transportation Recall Enhancement, Accountability, and Documentation (TREAD) Act on November 1, 2000, as a direct consequence of hearings before the Committee on Energy and Commerce on the safety of Firestone tires and related matters. Section 13 of the TREAD Act directs NHTSA to conduct rulemaking actions to revise and update the Federal motor vehicle safety standards for tires, to improve labeling on tires, and to require a system in new motor vehicles that warns the operator when a tire is significantly underinflated.

In response to Section 13 of the TREAD Act, NHTSA's National Center for Statistics and Analysis (NCSA) conducted the Tire Pressure Special Study (TPSS) in February 2001. The TPSS was designed to assess to what extent passenger vehicle operators are aware of the recommended tire pressures for their vehicles, the frequency and the means they use to measure their tire pressure, and how significantly the actual measured tire pressure differed from the manufacturer's recommended tire pressure. The TPSS found that 26 percent of the cars and 29 percent of LTVs had at least one tire more than 25 percent below the pressure recommended by the manufacturer, as specified on the placard located on the inside of the driver side door.

In an effort to decrease the number of vehicles with improperly inflated tires, Tire Pressure Monitoring Systems (TPMS) were mandated in Federal Motor Vehicle Safety Standard (FMVSS) No. 138, so that drivers are warned when the pressure in one or more of the vehicle's tires has fallen to 25 percent or more below the placard pressure, or a minimum level of pressure specified in the standard, whichever pressure is higher. To meet FMVSS No. 138, TPMS must indicate which of the four tires is underinflated. As of September 1, 2007, TPMS was required on all new light vehicles (i.e., passenger cars, trucks, multipurpose passenger vehicles, and buses with a gross vehicle weight rating of 10,000 pounds or less, except those vehicles with dual wheels on an axle). A phase-in period began on October 5, 2005, requiring that 20 percent of MY 2006 light vehicles be equipped with TPMS. This phase-in was stepped up to 70 percent for MY 2007, leading to 100 percent for MY 2008.

Executive Order 12866 requires Federal agencies to evaluate their existing regulations and programs and measure their effectiveness in achieving their objectives. However, since the phase-in of TPMS, there has not been any evaluation of TPMS. The purpose of this survey, Tire Pressure Monitoring System—Special Study (TPMS-SS), is to evaluate whether the frequency of underinflated tires has decreased in vehicles with TPMS in comparison to vehicles of the same age without TPMS. In addition, the survey will collect data on the drivers' familiarity with the type of warning given by their TPMS and the action(s) that they have taken after the warning has been given.

Description of the Likely Respondents (Including Estimated Number, and Proposed Frequency of Response to the Collection of Information): To minimize the survey start-up cost and to provide a trained cadre of data collectors, field data collection will be conducted through the infrastructure of the National Automotive Sampling System (NASS) Crashworthiness Data System (CDS). The NASS CDS consists of 24 Primary Sampling Units (PSUs) that are a probability sample selected from a sample frame of 1,195 PSUs. The sample was selected based on the number of fatal and injury motor vehicle crashes occurring in the PSUs.

Within each of NASS CDS 24 PSUs, 3 eligible gas stations (i.e., gas stations with more than one gas island) will be selected from each of seven randomly eligible Zip codes (i.e., Zip codes with at least 3 gas stations with more than one gas island) for a total of 21 gas stations per PSU. The 21 selected gas stations will be assigned to one of the 21 days of the data collection period.

The universe under study in the National Automotive Sampling System (NASS) Tire Pressure Monitoring System—Special Study (TPMS-SS) consists of passenger vehicles equipped with tire pressure monitoring systems (TPMS) and a set of peer vehicles that are not equipped with TPMS in the continental United States for the model years 2004 and newer. Data to be collected shall include in-person collection of vehicle profile data, tire data, and driver profile data for at least 10,000 passenger vehicles, as well as supplemental data on TPMS use for 600 of these vehicles. For an additional 450 passenger vehicles, supplemental data on TPMS use will be collected from the driver via one of the following 3 methods: (1) Filling out a hard copy survey form; (2) Completing the form on-line; or (3) Being called back by the field researcher at a later date.

Additionally, each respondent will receive a card on which the NASS Data Collectors will have recorded the Manufacturers Recommended Tire Pressure and the Tire Pressure the Data Collectors read for each of the vehicle's tires. Consequently, the respondent is receiving benefit in return for his/her participation.

Estimate of the Total Annual Reporting and Recordkeeping Burden Resulting From the Collection of Information: NHTSA estimates that the average time to collect vehicle, tire, and driver data will be slightly over 10 minutes for each interview (or a total of 1750 hours) for the 10,000 respondents plus an additional 10 minutes each (or a total of 175 hours) for the 1,050 respondents who will be asked supplemental questions on TPMS use. Consequently, the total respondent burden hours is estimated to be 1,925 hours.

Authority: 44 U.S.C. Section 3506(c)(2)(A).

James F. Simons,
Director, Office of Regulatory Analysis and Evaluation.

[FR Doc. E9-11204 Filed 5-13-09; 8:45 am]

BILLING CODE 4910-59-P